DEPARTMENT OF COMMERCE

International Trade Administration

[A-533-808]

Stainless Steel Wire Rods From India: Final Results of Changed-Circumstances Antidumping Duty Review

AGENCY: Import Administration, International Trade Administration, Department of Commerce.

SUMMARY: The Department of Commerce (the Department) has determined, pursuant to section 751(b) of the Tariff Act of 1930, as amended (the Act), that India Steel Works Limited (India Steel) is the successor-in-interest to Isibars Limited (Isibars). As a result, India Steel will be accorded the same treatment previously accorded to Isibars with regard to the antidumping duty order on stainless steel wire rods from India as of the date of publication of this notice in the Federal Register.

DATES: Effective Date: November 5, 2008.

FOR FURTHER INFORMATION CONTACT: Edythe Artman and Minoo Hatten, AD/CVD Operations, Office 5, Import Administration, International Trade Administration, U.S. Department of Commerce, 14th Street and Constitution Avenue, NW., Washington, DC 20230; telephone (202) 482-3931 and (202) 482-1690.

SUPPLEMENTARY INFORMATION:

Background

On December 1, 1993, the Department published an antidumping duty order on wire rods from India. See Antidumping Duty Order: Certain Stainless Steel Wire Rods from India, 58 FR 63335 (December 1, 1993). On August 4, 2008, the Department received a request for a changed-circumstances review of this order from India Steel to determine if, for purposes of the antidumping law, India Steel is the successor-in-interest to Isibars.

On September 25, 2008, the Department published the notice of initiation for this changed-circumstances review and preliminarily found that India Steel is the successor-in-interest to Isibars and should be treated as such for antidumping duty cash-deposit purposes. See Notice of Initiation and Preliminary Results of Changed Circumstances Antidumping Duty Review: Stainless Steel Wire Rods from India, 73 FR 55498 (September 25, 2008). We invited parties to comment on the preliminary results but received no comments or requests for a hearing.

Scope of the Review

The merchandise under review is wire rods, which are hot-rolled or hot-rolled annealed and/or pickled rounds, squares, octagons, hexagons or other shapes, in coils. Wire rods are made of alloy steels containing, by weight, 1.2 percent or less of carbon and 10.5 percent or more of chromium, with or without other elements. These products are only manufactured by hot-rolling and are normally sold in coiled form, and are of solid cross section. The majority of wire rods sold in the United States are round in cross-section shape, annealed, and pickled. The most common size is 5.5 millimeters in diameter.

The wire rods subject to this order are currently classifiable under subheadings 7221.00.0005, 7221.00.0015, 7221.00.0030, 7221.00.0045, and 7221.00.0075 of the Harmonized Tariff Schedule of the United States (HTSUS). Although the HTSUS subheadings are provided for convenience and customs purposes, the written description of the merchandise subject to the order is dispositive of whether the merchandise is covered by the order.

Final Results of Changed-Circumstances Review

For the reasons stated in the preliminary results and because the Department did not receive any comments on the preliminary results of this review, the Department continues to find that India Steel is the successor-in-interest to Isibars for antidumping duty cash-deposit purposes.

Instructions to U.S. Customs and Border Protection

The Department will instruct U.S. Customs and Border Protection (CBP) to suspend liquidation of all shipments of the subject merchandise produced and exported by India Steel entered, or withdrawn from warehouse, for consumption on or after the publication date of this notice at 30.10 percent (i.e., Isibars's cash-deposit rate, as published in Stainless Steel Wire Rod From India: Amended Final Results of Antidumping Duty Administrative Review, 70 FR 47177 (August 12, 2005)). This deposit rate shall remain in effect until publication of the final results of the next administrative review in which India Steel participates.

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This notice in accordance with sections 751(b) and 777(i)(1) of the Act, and sections 351.216(e) and 351.221(c)(3)(i) of the Department's regulations.

Dated: October 30, 2008.
David M. Spooner,
Assistant Secretary for Import Administration.

[FR Doc. E8-26411 Filed 11-4-08; 8:45 am]

BILLING CODE 3510-DS-P